DEPARTMENT OF THE INTERIOR

Bureau of Land Management

[LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey of a portion of the Sixth Standard Parallel North (south boundary), Township 25 North, Range 23 East, the survey of the south and west boundaries, the subdivisional lines and the subdivision of certain sections, Township 24 North, Range 23 East, accepted July 23, 2012, and officially filed July 25, 2012, for Group 1087, Arizona.

This plat was prepared at the request of the Bureau of Indian Affairs, Navajo Regional Office.

The plat (in 3 sheets) representing the dependent resurvey of a portion of the south boundary of the Hopi Indian Reservation, a portion of the Hopi-Navajo Partition Line, a portion of the Sixth Standard Parallel North (north boundary), and a portion of the west boundary of Township 24 North, Range 15 East (east boundary), and the survey of the west boundary, a Sectional Guide Meridian and a portion of the subdivisional lines, and the subdivision of certain sections, Township 24 North, Range 14 East, accepted July 25, 2012, and officially filed July 27, 2012, for Group 1092, Arizona.

This plat was prepared at the request of the Bureau of Indian Affairs, Navajo Regional Office.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Stephen K. Hansen,
Chief Cadastral Surveyor of Arizona.

[FR Doc. 2012-19676 Filed 8-9-12; 8:45 am]

BILLING CODE 4310-32-P